DEPARTMENT OF THE INTERIOR

National Park Service

[NPS-WASO-NRNHL-0611-7599; 2280-665]

National Register of Historic Places; Notification of Pending Nominations and Related Actions

Nominations for the following properties being considered for listing or related actions in the National Register were received by the National Park Service before May 28, 2011. Pursuant to section 60.13 of 36 CFR part 60, written comments are being accepted concerning the significance of the nominated properties under the National Register criteria for evaluation. Comments may be forwarded by United States Postal Service, to the National Register of Historic Places, National Park Service, 1849 C St., NW., MS 2280, Washington, DC 20240; by all other carriers, National Register of Historic Places, National Park Service, 1201 Eye St., NW., 8th floor, Washington, DC 20005; or by fax, 202-371-6447. Written or faxed comments should be submitted by July 5, 2011. Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

TENNESSEE

Blount County

Henry Farm (Boundary Increase), 305 Henry Ln., Brick Mill, 11000417

Davidson County

Alumni Memorial Hall, 2205 West End Ave., Nashville, 11000418

U.S. Naval Reserve Training Center, 1515 Davidson St., Nashville, 11000419

Hamilton County

Oak Grove Elementary School, 1912 S. Willow St., Chattanooga, 11000420

White County

Nashville, Chattanooga and St. Louis Railway Section House, 9479 Crossville Hwy., DeRossett, 11000421

Williamson County

Coats—Hines Archeological Site, Address Restricted, Franklin, 11000422

TEXAS

Bexar County

Heidemann Ranch, (Farms and Ranches of Bexar County, Texas) 26090 Toutant Beauregard Rd., San Antonio, 11000423

Guadalupe County

Hardscramble, 1806 Tschoepe Rd., Seguin, 11000424

Harris County

Idylwood Historic District, (Historic Residential Suburbs in the United States, 1830-1960 MPS) Roughly bounded by Lawndale Ave., N. MacGregor Wy., Sylvan Rd. & Wayside Dr., Houston, 11000425

WASHINGTON

King County

New Richmond Hotel, 308 4th Ave., S., Seattle, 11000426

Queen Anne Post Office and Regional Headquarters, 415 1st Ave., S., Seattle, 11000427

[FR Doc. 2011-15036 Filed 6-16-11; 8:45 am]

BILLING CODE 4312-51-P